DEPARTMENT OF DEFENSE

GENERAL SERVICES ADMINISTRATION

NATIONAL AERONAUTICS AND SPACE ADMINISTRATION

48 CFR Parts 2, 22, and 52

[FAC 2005-29, Amendment-2; FAR Case 2007-013; Docket 2008-0001; Sequence 3]

RIN 9000-AK91

Federal Acquisition Regulation; FAR Case 2007-013, Employment Eligibility Verification

AGENCIES: Department of Defense (DoD), General Services Administration (GSA), and National Aeronautics and Space Administration (NASA).

ACTION: Amendment to final rule; delay of applicability date.

SUMMARY: The Department of Defense, General Services Administration, and National Aeronautics and Space Administration have agreed to delay the applicability date of FAR Case 2007-013, Employment Eligibility Verification, to May 21, 2009.

DATES: Applicability Date: The applicability date of FAC 2005-29, Amendment-1, published January 14, 2009, 74 FR 1937, is delayed until May 21, 2009.

Contracting officers shall not include the new clause at 52.222-54, Employment Eligibility Verification, in any solicitation or contract prior to the applicability date of May 21, 2009.

On or after May 21, 2009, contracting officers—

• Shall include the clause in solicitations, in accordance with the clause prescription at 22.1803 and FAR 1.108(d)(1); and

• Should modify, on a bilateral basis, existing indefinite-delivery/indefinite-quantity contracts in accordance with FAR 1.108(d)(3) to include the clause for future orders if the remaining period of performance extends beyond November 21, 2009, and the amount of work or number of orders expected under the remaining performance period is substantial.

FOR FURTHER INFORMATION CONTACT: The FAR Secretariat at (202) 501-4755 for further information pertaining to status or publication schedule. Please cite FAC 2005-29 (delay of applicability date).

SUPPLEMENTARY INFORMATION: This document extends to May 21, 2009, the applicability date of the E-Verify rule, in order to permit the new Administration an adequate opportunity to review the rule.

Federal Acquisition Circular

Federal Acquisition Circular (FAC) 2005-29, Amendment-2, is issued under the authority of the Secretary of Defense, the Administrator of General Services, and the Administrator for the National Aeronautics and Space Administration.

The Federal Acquisition Regulation (FAR) contained in FAC 2005-29 is effective January 19, 2009, and applicable May 21, 2009.

Dated: January 27, 2009.
Linda W. Neilson,
Deputy Director, Defense Procurement (Defense Acquisition Regulations System).
Dated: January 26, 2009
Rodney P. Lantier,
Acting Senior Procurement Executive & Acting Deputy Chief Acquisition Officer, Office of the Chief Acquisition Officer, U.S. General Services Administration.
Dated: January 26, 2009.
William P. McNally,
Assistant Administrator for Procurement, National Aeronautics and Space Administration.

[FR Doc. E9-2060 Filed 1-27-09; 4:15 pm]

BILLING CODE 6820-EP-P